DEPARTMENT OF THE INTERIOR

Bureau of Land Management

[LLORV00000-L10200000.DD0000; HAG 9-0174]

Meeting Notice for the John Day/Snake Resource Advisory Council

AGENCY: Bureau of Land Management (BLM), Vale District.

ACTION: Meeting notice for the John Day/Snake Resource Advisory Council.

SUMMARY: Pursuant to the Federal Land Policy and Management Act and the Federal Advisory Committee Act, the U.S. Department of the Interior, Bureau of Land Management (BLM) John Day-Snake Resource Advisory Council (JDSRAC) will meet as indicated below:

• Dates: The John Day/Snake Resource Advisory Council (JDSRAC) Field Trip will begin at 9:30 p.m. PDT on May 27, 2009.

The JDSRAC meeting will begin 8 a.m. PDT on May 28, 2009.

• Effect: On the field trip the JDSRAC members will view first hand issues that pertain to the Baker BLM RMP alternatives development. At the meeting the JDSRAC will conduct its regular business of keeping member representatives informed about Federal actions.

• Address: On May 27th and May 28th, the JDSRAC members will meet at the Geiser Grand Hotel, 1996 Main Street, Baker City, Oregon 97814

SUPPLEMENTARY INFORMATION: A field trip is scheduled for May 27, 2009, to view resource issues as they pertain to the Baker Resource Management Plan on BLM lands near Baker City, Oregon.

The business meeting will take place on May 28, 2009, at the Geiser Grand Hotel, 1996 Main Street, Baker City, Oregon, from 8 a.m. to 4 p.m. The meeting may include such topics as Wallowa-Whitman Draft Weed EIS for Invasive Plant Projects—RAC Letter, Climate Change Letter, update of the Wallowa-Whitman Travel Management Plan, Baker RMP—Timeline for RAC Involvement, Public Lands Protection Act, Sub-Committee Reports, Restoration of the Lower Snake River, and other matters as may reasonably come before the council. The public is welcome to attend all portions of the meeting and may make oral comments to the Council at 1 p.m. on May 28, 2009. Those who verbally address the JDSRAC are asked to provide a written statement of their comments or presentation. Unless otherwise approved by the JDSRAC Chair, the public comment period will last no longer than 15 minutes, and each speaker may address the JDSRAC for a maximum of five minutes. If reasonable accommodation is required, please contact the BLM's Vale District at (541) 473-6213 as soon as possible.

FOR FURTHER INFORMATION CONTACT: Mark Wilkening, Public Affairs Specialist, 100 Oregon Street, Vale, OR 97918, (541) 473-6218 or e-mail mark_wilkening@blm.gov.

Dated: April 21, 2009.
David R. Henderson,
District Manager, Vale District Office.

[FR Doc. E9-9777 Filed 4-28-09; 8:45 am]

BILLING CODE 4310-33-P